DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Strategic Prevention Framework State Incentive Grant (SPF SIG) Program—NEW

The Substance Abuse and Mental Health Services Administration's (SAMHSA) Center for Substance Abuse Prevention (CSAP) is responsible for the Evaluation of the Strategic Prevention Framework State Incentive Grant (SPF SIG) Program. The program is a major national initiative designed to: (1) Prevent the onset and reduce the progression of substance abuse, including childhood and underage drinking; (2) reduce substance abuse-related problems in communities; and, (3) build prevention capacity and infrastructure at the State/territory and community levels.

Five steps comprise the SPF:

• Step 1: Profile population needs, resources, and readiness to address needs and gaps.

• Step 2: Mobilize and/or build capacity to address needs.

• Step 3: Develop a comprehensive strategic plan.

• Step 4: Implement evidence-based prevention programs, policies, and practices.

• Step 5: Monitor, evaluate, sustain, and improve or replace those that fail.

Under a contract with CSAP, an evaluation team will implement a multi-method quasi-experimental evaluation at national, State, and community levels. Evaluation data will be collected from 26 states receiving grants in 2004 and 2005 and as many as 32 non-grantee states that will serve as a comparison group. The primary evaluation objective is to determine the impact of SPF SIG on the SAMHSA National Outcome Measures (NOMs).

This notice invites comment on state-level and community-level data collection instruments. The instruments for assessing state-level change will be included in an OMB review package submitted immediately after the expiration of the comment period and are the main focus of this announcement. These instruments will be reviewed first by OMB to ensure that state-level data collection occurs as specified in the evaluation plan (on or before June 30, 2006). Because the states have not awarded community-level funding, the evaluators will not initiate community-level data collection until late in 2006. Thus, the community-level survey will be submitted as an addendum approximately one month after the comment period expires. However, the instrument is described in this notice and comments on the instrument are invited.

State-Level Data Collection

Two instruments were developed for assessing state-level effects. Both instruments are guides for telephone interviews that will be conducted by trained interviewers three to four times over the life of the SPF SIG award. The Strategic Prevention Framework Index will be used to assess the relationship between SPF implementation and change in the national outcome measures. The State Infrastructure Index will capture data to assess infrastructure change and to test the relationship of this change to outcomes. Prevention infrastructure refers to the organizational features of the system that delivers prevention services, including all procedures related to planning, data management systems, workforce development, intervention implementation, evaluation and monitoring, financial management, and sustainability. The estimated annual burden for state-level data collection is displayed below in the table.

State Level Burden Estimate
Interview guide | Content description | Number of respondents | Number of responses | Hourly burden per response | Total hourly burden
Year 1
SPF Implementation Index | SEW activities, indicators for each SPF step, including cultural competence throughout all five steps | 26 | 1 | 3 | 78
State Infrastructure Index | Assessment of a state's progress over time toward the implementation of these best practices | 26 | 1 | 6 | 156
Total State Level Year 1 Burden |  |  | 2 | 9 | 234
Year 2
SPF Implementation Index | SEW activities, indicators for each SPF step, including cultural competence throughout all five steps | 26 | 1 | 3 | 78
State Infrastructure Index | Assessment of a state's progress over time toward the implementation of these best practices | 26 | 1 | 6 | 156
Total State Level Year 2 Burden |  |  | 2 | 9 | 234
Year 3
SPF Implementation Index | SEW activities, indicators for each SPF step, including cultural competence throughout all five steps | 26 | 1 | 3 | 78
State Infrastructure Index | Assessment of a state's progress over time toward the implementation of these best practices | 26 | 1 | 6 | 156
Total State Level Year 3 Burden |  |  | 2 | 9 | 234
Average Annual State Burden |  |  | 2 | 9 | 234

Community-level Data Collection

The Community Level Index is a two-part, web-based survey for capturing information about SPF SIG implementation at the community level. Part 1 of the survey focuses on the five SPF SIG steps and efforts to ensure cultural competency throughout the SPF SIG process. Part 2 will capture data on the specific intervention(s) implemented at the community level including both individual-focused and environmental prevention strategies. Community partners receiving SPF SIG awards will be required to complete the survey every six months, using a secure password system. The survey data will be analyzed in conjunction with state and community outcome data to determine the relationship, if any, between the SPF process and substance use outcomes. This survey will be submitted as an addendum to the forthcoming OMB package approximately one month after the expiration of the comment period. The estimated annual burden for community-level data collection is displayed below. Note that the total burden assumes an average of 15 community-level sub-grantees per state (a total of 390 respondents) and two survey administrations per year. Note also that some questions will be addressed only once and the responses will be used to pre-fill subsequent surveys. In addition, as community partners work through the SPF steps, they will report only on step-related activities. For example, needs assessment activities will likely precede monitoring and evaluation activities. Thus, respondents will answer questions related to needs assessment in the first few reports but will not need to address monitoring and evaluation items until later in the implementation process.

Community Level Survey Burden Estimate
Survey section | Content description | Number of respondents | Number of responses | Hourly burden/response | Total hourly burden
Year 1
Part I, 1-10 | Contact Information and Reporting Period | 390 | 1 | 0.2 | 78
11-19 | Organization Type and Funding | 390 | 1 | 0.2 | 78
20-26 | Cultural Competence, Sustainability and Framework Progress | 390 | 2 | 0.1 | 78
27-47 | Needs and Resources Assessments | 390 | 1 | 0.5 | 195
48-137 | Capacity Building Activities | 390 | 2 | 1.7 | 1,326
138-155 | Strategic Plan Development | 390 | 1 | 1.0 | 390
172-178 | Contextual Factors and Closing Questions | 390 | 2 | 1.0 | 780
Sub-form 179-191 | Coalition Organizational Information | 390 | 1 | 1.0 | 390
Part II 1-52 | Intervention Specific Information and Adaptations | 390 | 3 | 2.0 | 2,340
Review of past responses |  | 390 | 2 | 1.0 | 780
Total Community Level Year 1 Burden |  |  | 16 | 8.6 | 6,435
Year 2
Part I, 20-26 | Cultural Competence, Sustainability and Framework Progress | 390 | 2 | 0.1 | 78
48-137 | Capacity Building Activities | 390 | 2 | 1.7 | 1,326
172-178 | Contextual Factors and Closing Questions | 390 | 2 | 1.0 | 780
Part II 1-52 | Intervention Specific Information and Adaptations | 390 | 3 | 2.0 | 2,340
53-60 | Intervention Outcomes | 390 | 6 | 1.0 | 2,340
Sub-forms | Intervention Component Information | 390 | 6 | 1.0 | 2,340
Review of past responses |  | 390 | 2 | 1.0 | 780
Total Community Level Year 2 Burden |  |  | 23 | 7.8 | 9,984
Year 3
Part I, 20-26 | Cultural Competence, Sustainability and Framework Progress | 390 | 2 | 0.1 | 78
48-137 | Capacity Building Activities | 390 | 1 | 1.7 | 1,326
156-160 | Intervention Implementation | 390 | 2 | 0.1 | 78
172-178 | Contextual Factors and Closing Questions | 390 | 2 | 1.0 | 780
Part II, 1-52 | Intervention Specific Information and Adaptations | 390 | 3 | 2.0 | 2,340
53-60 | Intervention Outcomes | 390 | 6 | 1.0 | 2,340
Sub-forms | Intervention Component Information | 390 | 6 | 1.0 | 2,340
Review of past responses |  | 390 | 2 | 1.0 | 780
Total Community Level Year 3 Burden |  |  | 24 | 7.9 | 10,062
Average Annual Community Burden |  |  | 21 | 8.1 | 8,827

Send comments to Summer King, SAMHSA Reports Clearance Officer, Room 71-1044, One Choke Cherry Road, Rockville, MD 20857. Written comments should be received within 60 days of this notice.

Dated: December 30, 2005.
Anna Marsh,
Director, Office of Program Services.

[FR Doc. E6-95 Filed 1-9-06; 8:45 am]

BILLING CODE 4162-20-P